DEPARTMENT OF COMMERCE

International Trade Administration

[A-570-898]

Chlorinated Isocyanurates From the People's Republic of China: Notice of Extension of Time Limit for the Final Results of the 2008-2009 Antidumping Duty Administrative Review

AGENCY: Import Administration, International Trade Administration, Department of Commerce.

DATES: Effective Date: October 7, 2010.

FOR FURTHER INFORMATION CONTACT: Brandon Petelin or Charles Riggle, AD/CVD Operations, Office 8, Import Administration, International Trade Administration, U.S. Department of Commerce, 14th Street and Constitution Avenue, NW., Washington, DC 20230; telephone: (202) 482-8173 or (202) 482-0650, respectively.

SUPPLEMENTARY INFORMATION:

Background

On May 14, 2010, the Department of Commerce (“Department”) published its preliminary results of review of the antidumping order on chlorinated isocyanurates from the People's Republic of China (“PRC”).¹ This review covers the period June 1, 2008, through May 31, 2009. The final results of review are currently due no later than October 12, 2010.

¹ See Chlorinated Isocyanurates from the People's Republic of China: Preliminary Results and Partial Rescission of Antidumping Duty Administrative Review, 75 FR 27302 (May 14, 2010) (“Preliminary Results”).

Extension of Time Limit for Final Results of Review

Pursuant to section 751(a)(3)(A) of the Tariff Act of 1930, as amended (“the Act”), the Department shall issue the final results of an administrative review within 120 days after the date on which the preliminary results are published. However, if it is not practicable to complete the review within this time period, section 751(a)(3)(A) of the Act allows the Department to extend the time period to a maximum of 180 days.

On September 17, 2010, the Department published a notice extending the time limit for the final results of this administrative review by 30 days, i.e., until October 12, 2010.² The Department now finds that it is not practicable to complete the final results of the administrative review of chlorinated isocyanurates from the PRC before the current deadline due to complicated surrogate value issues, including the most appropriate methodology for valuing labor, for the final results. We find that additional time is needed to complete these final results. Therefore, in accordance with section 751(a)(3)(A) of the Act, we are extending the time period for issuing the final results of the administrative review by an additional 30 days. As a result, these final results are due on Wednesday, November 10, 2010, 180 days after the date on which the preliminary results were published.

² See Chlorinated Isocyanurates from the People's Republic of China: Notice of Extension of Time Limit for the Final Results of the 2008-2009 Antidumping Duty Administrative Review, 75 FR 56988 (September 17, 2010).

This notice is published in accordance with sections 751(a)(3)(A) and 777(i) of the Act.

Dated: October 1, 2010.
Susan H. Kuhbach,
Acting Deputy Assistant Secretary for Antidumping and Countervailing Duty Operations.

[FR Doc. 2010-25301 Filed 10-6-10; 8:45 am]

BILLING CODE 3510-DS-P